DEPARTMENT OF COMMERCE

National Oceanic and Atmospheric Administration

50 CFR Part 622

[Docket No. 101217620-1654-02]

RIN 0648-BA62

Amendments to the Reef Fish, Spiny Lobster, Queen Conch and Coral and Reef Associated Plants and Invertebrates Fishery Management Plans of Puerto Rico and the U.S. Virgin Islands

AGENCY: National Marine Fisheries Service (NMFS), National Oceanic and Atmospheric Administration (NOAA), Commerce.

ACTION: Proposed rule; request for comments.

SUMMARY: NMFS issues this proposed rule to implement Amendment 6 to the Fishery Management Plan (FMP) for the Reef Fish Fishery of Puerto Rico and the U.S. Virgin Islands, Amendment 5 to the FMP for the Spiny Lobster Fishery of Puerto Rico and the U.S. Virgin Islands, Amendment 3 to the FMP for the Queen Conch Resources of Puerto Rico and the U.S. Virgin Islands, and Amendment 3 to the FMP for Corals and Reef Associated Plants and Invertebrates of Puerto Rico and the U.S. Virgin Islands (2011 Caribbean ACL Amendment) prepared by the Caribbean Fishery Management Council (Council). This proposed rule would: Establish annual catch limits (ACLs) and accountability measures (AMs) for reef fish, spiny lobster, and aquarium trade species which are not determined to be undergoing overfishing; allocate ACLs among island management areas and, in Puerto Rico only, among commercial and recreational sectors; establish recreational bag limits for reef fish and spiny lobster; remove eight conch species from the queen conch FMP; and establish framework procedures for the spiny lobster and Caribbean corals and reef associated plants and invertebrates FMPs. The 2011 Caribbean ACL Amendment would also revise management reference points and status determination criteria for selected reef fish, spiny lobster, and aquarium trade species. The intended effect of the rule is to prevent overfishing of reef fish, spiny lobster, and aquarium trade species while maintaining catch levels consistent with achieving optimum yield (OY).

DATES: Written comments must be received on or before November 22, 2011.

ADDRESSES: You may submit comments on the proposed rule identified by “NOAA-NMFS-2011-0017”, by any of the following methods:

• Electronic Submissions: Submit all electronic public comments via the Federal e-Rulemaking Portal: http://www.regulations.gov. Follow the instructions for submitting comments.

• Mail: Miguel Lugo or Maria Lopez, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

To submit comments through the Federal e-Rulemaking Portal: http:www.regulations.gov, click on “submit a comment,” then enter “NOAA-NMFS-2011-0017” in the keyword search and click on “search.” To view posted comments during the comment period, enter “NOAA-NMFS-2011-0017” in the keyword search and click on “search”. NMFS will accept anonymous comments (enter N/A in the required fields if you wish to remain anonymous). You may submit attachments to electronic comments in Microsoft Word, Excel, WordPerfect, or Adobe PDF file formats only.

Comments received through means not specified in this rule will not be considered.

Electronic copies of the 2011 Caribbean ACL Amendment, which includes an environmental impact statement (EIS), an initial regulatory flexibility analysis (IRFA), a regulatory impact review, and a fishery impact statement may be obtained from the Southeast Regional Office Web site at http://sero.nmfs.noaa.gov/sf/pdfs/2011_ACL_Amendment_FEIS_102511.pdf.

FOR FURTHER INFORMATION CONTACT: Miguel Lugo or Maria Lopez, Southeast Regional Office, NMFS, telephone: (727) 824-5305, or email: Miguel.Lugo@noaa.gov or Maria.Lopez@noaa.gov.

SUPPLEMENTARY INFORMATION: In the exclusive economic zone (EEZ) of the U.S. Caribbean, the reef fish fishery is managed under the Fishery Management Plan (FMP) for the Reef Fish Fishery of Puerto Rico and the U.S. Virgin Islands, spiny lobster is managed under the FMP for the Spiny Lobster Fishery of Puerto Rico and the U.S. Virgin Islands, conch is managed under the FMP for the Queen Conch Resources of Puerto Rico and the U.S. Virgin Islands, and aquarium trade species fisheries are managed under the FMP for Reef Fish and the FMP for Coral and Reef Associated Plants and Invertebrates of Puerto Rico and the U.S. Virgin Islands. These FMPs were prepared by the Council and are implemented through regulations at 50 CFR part 622 under the authority of the Magnuson-Stevens Fishery Conservation and Management Act (Magnuson-Stevens Act).

Background

The 2006 reauthorization of the Magnuson-Stevens Act requires that for the fisheries determined by the Secretary of Commerce (Secretary) to be not subject to overfishing, ACLs and AMs must be established in 2011 at a level that prevents overfishing and helps to achieve OY. These mandates are intended to ensure fishery resources are managed for the greatest overall benefit to the nation, particularly with respect to providing food production and recreational opportunities, and protecting marine ecosystems.

NMFS' 2011 Report on the Status of U.S. Fisheries classifies Caribbean spiny lobster, angelfishes, boxfishes, goatfishes, grunts, wrasses, jacks, scups and porgies, squirrelfishes, surgeonfishes, triggerfishes and filefishes, tilefishes, and aquarium trade species as unknown with respect to their status regarding overfishing. The eight species of conch proposed to be removed from the Queen Conch FMP are currently in the FMP as data collection only species and were not assessed through this report.

Provisions Contained in This Proposed Rule

Revise Management Reference Points

The Magnuson-Stevens Act requires that FMPs specify a number of reference points for managed fish stocks, including maximum sustainable yield (MSY), OY, and stock status determination criteria that can be used to determine when a fishery is overfished and/or undergoing overfishing. These reference points are intended to provide the means to measure the status and performance of fisheries relative to established goals. Proxies have been established for these reference points because available data in the U.S. Caribbean are not sufficient to support direct estimation of these parameters. The FMP Amendments would revise three of those proxies. First, they would use either the median or average of landings data for a determined year sequence as a proxy for MSY for all units or complexes. The time period during which average catch is calculated for those species is 1988-2009 for the commercial sector of Puerto Rico, 2000-2009 for the recreational sector of Puerto Rico, 1999-2008 for the commercial sector St. Croix, and 2000-2008 for the commercial sector of St. Thomas/St. John. These year sequences represent the longest year sequence of reliable landings data that the Council considers to be consistently reliable across the islands of the U.S. Caribbean. The MSY proxy for these species in Puerto Rico would be set by the median of the annual landings in the year sequence above. For St. Croix and St. Thomas/St. John, the MSY equals the average of annual landings for the year sequence described above. The MSY for surgeonfish and angelfish was defined as three times the single year maximum of recreational landings for Puerto Rico. The FMP amendments would also define the overfishing threshold of all species as the overfishing limit (OFL), which would equal the MSY proxy. For the majority of species units or complexes, OY would equal the MSY proxy multiplied by a reduction factor to account for any uncertainty in the scientific and management process. The reduction factor would be 10 percent for all species, except a 25 percent reduction would be applied for surgeonfish, angelfish and aquarium trade species to account for greater uncertainty for those species.

Removal of Stocks From the Queen Conch FMP

Currently, the conch complex within the Queen Conch FMP is composed of nine species. This rule would remove eight conch species from that FMP. These species are milk conch (Strombus costatus), West Indian fighting conch (Strombus pugilis), roostertail conch (Strombus gallus), hawkwing conch (Strombus raninus), true tulip (Fasciolaria tulipa), Atlantic triton's trumpet (Charonia variegata), cameo helmet (Cassis madagascarensis), and green star shell (Astrea tuber). After implementation of this rule, only the queen conch (Strombus gigas), would remain as a managed species in the conch FMP. The eight species of conch proposed to be removed from the Queen Conch FMP are currently in the FMP as data collection only species and were not assessed in the NMFS 2011 Report on the Status of U.S. Fisheries. These species were classified as data collection only species because the Council determined there was not enough information available to specify biological reference points and/or management measures for that species (50 CFR 600.320(d)(2)). Under the new National Standard 1 Guidelines, the Council was required to either remove these species from the FMP, re-classify them as Ecosystem Component Species, or specify status determination criteria for them (50 CFR 600.310(d)). These eight species are not generally targeted for harvest. No landings data are available for these species and the Council believes that any landings are minimal. Accordingly, the Council determined that there was no need for Federal conservation and management of these species, and decided to remove them from the FMP.

Island Specific Management

This rule would also implement island-specific management to enable application of AMs in response to harvesting activities on a single island (Puerto Rico, St. Croix) or island group (St. Thomas/St. John) without necessarily affecting fishing activities on the other islands or island groups. For example, if the ACL for the jacks complex is divided among Puerto Rico, St. Croix and St. Thomas/St. John and the St. Croix fishery exceeds its ACL for jacks, then an AM can be applied in the Federal waters surrounding St. Croix without necessarily affecting harvest of jacks in Federal waters surrounding Puerto Rico or St. Thomas/St. John. This rule proposes geographic boundaries between islands/island groups based upon an equidistant approach that uses a mid-point to divide the exclusive economic zone (EEZ) among islands. The three island management areas are: Puerto Rico, St. Croix, and St. Thomas/St. John.

Establish Annual Catch Limits and Accountability Measures

This proposed rule would establish ACLs and AMs for angelfish, boxfish, goatfishes, grunts, wrasses, jacks, scups and porgies, squirrelfishes, surgeonfish, triggerfish and filefish, tilefish, spiny lobster, and aquarium trade species units or complexes in the Caribbean Reef Fish, Spiny Lobster, and Coral and Reef Associated Plants and Invertebrates FMPs. The harvest of Caribbean prohibited coral that are contained within the FMP for Coral and Reef Associated Plant and Invertebrates, and that are not described as aquarium trade species, is prohibited by Federal regulations. Therefore, a functional ACL of zero will be considered for these prohibited species. Additionally, the harvest prohibition serves as a functional AM to manage the ACL.

Each ACL would be sub-divided among the three islands/island groups except that the ACL for tilefish and aquarium trade species would be applicable for the entire Caribbean EEZ. Landings data records do not exist for tilefish and aquarium trade species in the U.S. Virgin Islands. For this reason, a Caribbean-wide ACL would be established for tilefish and aquarium trade species based on the Puerto Rico median landings for these species. Separate commercial and recreational sector ACLs would be established for the Puerto Rico management area where landings data are available for both sectors. For the other island management areas (St. Croix and St. Thomas/St. John), only commercial data are available, therefore, ACLs would be established for the St. Croix and St. Thomas/St. John management areas based on commercial landings data only. Commercial data used to monitor those ACLs would be derived from trip ticket reports collected from territorial governments and recreational data used to monitor the Puerto Rico recreational ACLs would be derived from the Marine Recreational Fisheries Statistics Survey, or its successor, the Marine Recreational Information Program.

U.S. Caribbean landings data generally do not provide useful information at the species level for the species addressed in the 2011 Caribbean ACL Amendment. Aggregate ACLs would be established at the complex level for species in each island management area.

The allowable biological catch (ABC) proposed for these units or complexes are derived from the OFL (MSY proxy)(or SSC-recommended OFL). In most cases, the ABC is equal to the OFL, and then reduced by 10 percent to specify ACL and OY to buffer for scientific and management uncertainty, reducing the probability that overfishing will occur. The surgeonfish and angelfish ABCs are reduced by 25 percent to specify ACL and OY to further reduce the impacts of surgeonfish and angelfish harvest on Acropora species in U.S. Caribbean waters. The aquarium trade species ABC is reduced by 25 percent due to the level of uncertainty about the fishery in the EEZ and most of the harvest occurs in territorial waters.

If implemented, the accountability measures in this rule are designed to prevent fishermen from exceeding the ACLs. Two components are considered, the first identifies the conditions under which AMs would be triggered and the second describes the action(s) that would occur if AMs are triggered. This rule would trigger AMs if an ACL has been exceeded based on a moving multi-year average of landings as described in the FMP. Both commercial and recreational landings of a species, unit, or complex vary substantially from year to year; applying a multi-year average is intended to dampen that variability. The rule would reduce the length of the fishing season for the affected species, unit or complex the year following the year it is determined that the ACL was exceeded by the amount needed to prevent such an overage from occurring again. The AM is triggered unless NMFS' SEFSC, in consultation with the Council and its SSC, determines the overage occurred because data collection and monitoring improved rather than because catches actually increased.

General Management Measures

This rule would establish an aggregate bag limit for the recreational harvest of angelfishes, boxfishes, goatfishes, grunts, wrasses, jacks, scups and porgies, squirrelfishes, surgeonfishes, triggerfishes and filefishes, and tilefishes. The daily recreational bag limit for the described reef fish species would be five fish per person per day, with no more than one surgeonfish per person per day allowed within the aggregate. This rule would also establish a vessel limit of 15 fish per vessel per day, including no more than 4 surgeonfish per vessel per day. The rule would also set a bag limit of 3 spiny lobster per person per day with a vessel limit of 10 spiny lobster per vessel per day.

Framework Measures

This rule proposes framework measures for both the Spiny Lobster and the Coral and Reef Associated Plants and Invertebrates FMPs. Management measures proposed to be adjusted through framework procedures include but are not limited to quotas, closures, trip limits, bag limits, size limits, gear restrictions, fishing years, and reference points. The purpose of these framework measures is to allow the Council to more expeditiously adjust management in response to changing fishery conditions.

Classification

Pursuant to section 304(b)(1)(A) of the Magnuson-Stevens Act, the NMFS Assistant Administrator has determined that this rule is consistent with Caribbean 2011 ACL Amendment, other provisions of the Magnuson-Stevens Act, and other applicable law, subject to further consideration after public comment.

This rule has been determined to be not significant for purposes of Executive Order 12866. However, ACLs are a controversial issue in the U.S. Caribbean, which is a region with populations characterized by large percents of racial/ethnic minorities, high poverty rates, and low median household incomes. Moreover, commercial fishermen of St. Croix and St. Thomas/St. John would experience a substantially disproportionate adverse economic impact relative to their counterparts in Puerto Rico.

NMFS prepared an IRFA, as required by section 603 of the Regulatory Flexibility Act, for this rule. The IRFA describes the economic impact that this rule, if adopted, would have on small entities. A description of the action, why it is being considered, and the objectives of, and legal basis for this action are contained at the beginning of this section in the preamble and in the SUMMARY section of the preamble. A copy of the full analysis is available from the Council (see ADDRESSES). A summary of the IRFA follows.

The rule, which consists of several actions, would: Establish recreational bag limits for spiny lobster and specified reef fish species; specify ACLs and AMs for Caribbean spiny lobster, reef fish, and aquarium trade species not determined to be undergoing overfishing; and establish framework measures to facilitate regulatory modifications.

The Magnuson Stevens Act provides the statutory basis for the rule.

No duplicative, overlapping, or conflicting Federal rules have been identified; however, Federal regulations that impose seasonal or year-round prohibitions on fishing in Federal waters of the U.S. Caribbean that may affect fishing for these Units are identified in the IRFA. The rule would not alter existing reporting or record-keeping requirements. The rule would establish recreational bag limits for Caribbean spiny lobster and reef fish and provide NMFS the authority to restrict harvest in areas of the EEZ where annual or average annual landings of a stock, complex or unit exceed the relevant ACL.

This rule is expected to directly affect businesses that harvest spiny lobster, reef fish, and aquarium trade species from Federal waters off Puerto Rico and the USVI. These businesses are in the finfish fishing (NAICS 114111), shellfish fishing (NAICS 114112) and charter fishing industries (NAICS 487210). A business is classified as a small business if it is independently owned and operated, is not dominant in its field of operation (including its affiliates), and has combined annual receipts or number of employees not in excess of the Small Business Administration's (SBA's) size standards. The finfish and shellfish fishing industries have an SBA size standard of $4.0 million in annual receipts, and the charter fishing industry's size standard is $7.0 million in annual receipts. The IRFA assumes all commercial (finfish and shellfish) and charter fishing businesses that operate in the U.S. Caribbean have annual receipts less than these size standards and are small businesses.

In 2008, there were from 868 to 874 active commercial fishermen in Puerto Rico; 74 percent of these fishermen were captains and the remaining 26 percent were crew members. The IRFA assumes each captain represents a small business in the finfish fishing and shellfish fishing industries and each member of the crew an employee of one of those businesses. Therefore, it is concluded that there are 642 to 644 small businesses in the finfish fishing and shellfish fishing industries in Puerto Rico and potentially all of these businesses could be directly affected by the rule. In 2008, there were 223 licensed commercial fishermen in St. Croix and 160 in St.Thomas/St. John. There is a moratorium on the number of U.S. Virgin Islands commercial fishing licenses, so the IRFA assumes the 223 commercial fishermen in St. Croix and 160 commercial fishermen in St. Thomas/St. John represent 383 small businesses in the finfish fishing and shellfish fishing industries in the U.S. Virgin Islands who could be directly affected by the rule.

There are an estimated 9 small businesses in the charter fishing industry in Puerto Rico, 12 such businesses in St. Thomas/St. John and 1 in St. Croix. The rule would apply to all of these small businesses.

The rule would apply to all small businesses in Puerto Rico, St. Croix and St. Thomas/St. John within the finfish fishing, shellfish fishing, and charter fishing industries. Therefore, the rule applies to a substantial number of small entities in the U.S. Caribbean in these industries.

Charter fishing operations in Puerto Rico and the U.S. Virgin Islands target pelagic species and tend not to target spiny lobster or reef fish species in Federal waters. Consequently, it is expected that small businesses in the charter fishing industry in Puerto Rico, St. Croix or St. Thomas/St. John would experience little to no adverse economic impact because of the rule.

A comparison of the proposed Puerto Rico commercial ACLs for aquarium trade species, angelfish, boxfish, goatfish, grunts, jacks, scups and porgies, spiny lobster, surgeonfish, tilefish, squirrelfish and triggerfish/filefish, to average annual commercial landings from 2006 to 2007 suggests the proposed commercial ACLs for these complexes would not require reductions in the lengths of the Federal commercial fishing seasons for these complexes in the Puerto Rico EEZ. Therefore, there would be no adverse economic impact on small businesses in Puerto Rico that harvest these species.

The proposed Puerto Rico commercial hogfish/wrasses ACL is less than the average of annual landings of hogfish/wrasses from 2006 to 2009, which suggests there would be an overage of hogfish/wrasses landings in 2011, assuming the ACL is implemented by early 2012, that would require a shortened Federal fishing season in the Puerto Rico EEZ in 2012 by approximately 7 days and similarly thereafter. Puerto Rico's commercial fishermen could mitigate for the potentially shortened hogfish/wrasses fishing season in the Puerto Rico EEZ by targeting other species during the time that the Federal hogfish/wrasses fishing season is closed or they could move into territorial waters to harvest hogfish/wrasses species during the time the Federal season is closed. Approximately 95 percent of fishable area off Puerto Rico is in territorial waters. It is expected that small businesses would mitigate for the potential loss of 1,076 lb (488 kg) of hogfish/wrasses by relocating into territorial waters during the approximately 7 days the hogfish/wrasses fishing season is closed in the Puerto Rico EEZ with little to no displacement costs.

This rule is expected to have a substantially greater adverse economic impact on small businesses in the finfish fishing and shellfish fishing industries in St. Croix and St. Thomas/St. John than in Puerto Pico. St. Croix small businesses would incur annual losses of landings of up to 24.3 percent of their average annual landings of all species that are the subject of this action. St. Thomas/St. John small businesses would incur annual losses of landings of up to 12.6 percent of their average annual landings of all species that are the subject of this action. Assuming ACLs are implemented early in 2012, St. Croix commercial fisherman are expected to lose 21 day of boxfish, 68 days of grunts, 253 days of hogfish/wrasses, 54 days of scups and porgies, 112 days of spiny lobster, 242 days of squirrelfish, 101 days of surgeonfish, and 50 days of triggerfish fishing in the EEZ in 2012, and thereafter. Additionally, assuming the ACLs are implemented in 2012 and there are shortened commercial seasons beginning in 2012, St. Thomas/St. John commercial fisherman would lose 93.5 days of angelfish, 90.8 days of boxfish, 20 days of grunts, 193 days of hogfish/wrasses, 56 days of jacks, 25 days of scups and porgies, 52 days of spiny lobster, 84 days of surgeonfish, and 5.5 days of triggerfish fishing in the EEZ in 2012, and thereafter.

The percent of fishable area in the U.S. Virgin Islands' territorial waters is significantly less than the percent of fishable area in Puerto Rico's territorial waters. Thirty-eight percent of fishable area off the U.S. Virgin Islands lies within the U.S. Caribbean EEZ, and a larger share of landings in St. Croix and St. Thomas/St. John derive from fishing in the EEZ than in Puerto Rico. Hence, it is more difficult for U.S. Virgin Islands fishermen to substitute fishing in territorial waters for fishing in Federal waters.

Among the considered but rejected significant alternatives for the action to establish the triggering mechanism for AMs were two alternatives which would use a single year's landings to trigger the AMs. Also considered but rejected were alternatives that would use a single year's landings in 2011 and then use a 2-year annual average starting in 2012 and continuing thereafter to trigger the AMs. The preferred alternative would use a 3-year average starting in 2013 and continuing thereafter. The adverse economic impact of the preferred alternative is less than the adverse economic impacts of the rejected alternatives. This adverse economic impact is less because a 3-year average allows for yearly or 2-year averages to exceed the ACL without triggering a shortened fishing season when the 3-year average may be equal to or less than the ACL.

An alternative that would include an ACL overage payback as part of the action applying an AM when an ACL is exceeded was considered but rejected because it would require a larger reduction in the Federal fishing season, and thus a larger adverse economic impact, than the preferred alternative to not implement an ACL overage payback.

The Council's preferred alternative for Action 1(b) setting the ABC for reef fish sets the ABC equal to the OFL. This alternative would have a smaller indirect adverse economic impact than considered but rejected alternatives that would set lower ABCs, and in turn establish lower ACLs. The preferred alternatives 2(p) (setting ACLs for all reef fish FMUs, except for angelfish and surgeonfish) and 2(n)(setting ACLs for angelfish and surgeonfish), would have smaller indirect adverse economic impact than the considered but rejected alternatives that would establish lower ABCs and ACLs.

The preferred alternative for Action 2(b) that sets ABC equal to OFL for spiny lobster (alternative 2(g)) would have a smaller indirect adverse economic impact than considered but rejected alternatives that would set lower ABCs, which in turn could lead to lower ACLs. Preferred alternative 2(o) would have a smaller indirect adverse economic impact than the considered but rejected alternatives that would establish lower ACLs.

The preferred alternative for Action 3(b) that sets the ABC equal to the OFL for aquarium trade species (alternative 2(e)) would have a smaller adverse economic impact than considered but rejected alternatives that would establish lower ABCs and likely lower ACLs. Preferred alternative 2(k) that would set the ACL would have a smaller indirect adverse economic impact than the considered but rejected alternative that would establish a lower ACL.

List of Subjects in 50 CFR Part 622

Fisheries, Fishing, Puerto Rico, Reporting and recordkeeping requirements, Virgin Islands.

Dated: November 2, 2011.
Samuel D. Rauch III,
Deputy Assistant Administrator for Regulatory Programs, National Marine Fisheries Service.

For the reasons set out in the preamble, 50 CFR part 622, as proposed to be amended at 76 FR 66675, October 27, 2011, is proposed to be further amended as follows:

PART 622—FISHERIES OF THE CARIBBEAN, GULF, AND SOUTH ATLANTIC

1. The authority citation for part 622 continues to read as follows:

Authority: 16 U.S.C. 1801 et seq.

2. In § 622.39, paragraph (g)(2) is revised and paragraph (h) is added to read as follows:

§ 622.39 Bag and possession limits.

* * * * *

(g) * * *

(2) Bag limits. (i) Groupers, snappers, and parrotfishes combined—5 per person per day or, if 3 or more persons are aboard, 15 per vessel per day; but not to exceed 2 parrotfish per person per day or 6 parrotfish per vessel per day.

(ii) Other reef fish species combined—5 per person per day or, if 3 or more persons are aboard, 15 per vessel per day, but not to exceed 1 surgeonfish per person per day or 4 surgeonfish per vessel per day.

(h) Caribbean spiny lobster—(1) Applicability. Paragraph (a)(1) of this section notwithstanding, the bag limit of paragraph (h)(2) of this section does not apply to a fisherman who has a valid commercial fishing license issued by Puerto Rico or the U.S. Virgin Islands.

(2) Bag limit. The bag limit for spiny lobster in or from the Caribbean EEZ is 3 per person per day, not to exceed 10 per vessel per day, whichever is less.

3. In § 622.48, paragraphs (n) and (o) are added to read as follows:

§ 622.48 Adjustment of management measures.

* * * * *

(n) Caribbean spiny lobster. Fishery management unit (FMU), quotas, trip limits, bag limits, size limits, closed seasons or areas, gear restrictions, fishing years, MSY, OY, TAC, maximum fishing mortality threshold (MFMT), minimum stock size threshold (MSST), overfishing limit (OFL), acceptable biological catch (ABC) control rules, ACLs, AMs, ACTs, and actions to minimize the interaction of fishing gear with endangered species or marine mammals.

(o) Caribbean corals and reef associated plants and invertebrates. Fishery management units (FMUs), quotas, trip limits, bag limits, size limits, closed seasons or areas, gear restrictions, fishing years, MSY, OY, TAC, MFMT, MSST, OFL, ABC control rules, ACLs, AMs, ACTs, and actions to minimize the interaction of fishing gear with endangered species or marine mammals.

4. In § 622.49, introductory paragraph (c) is revised and paragraphs (c)(1)(i)(H) through (R), (c)(1)(ii)(H) through (Q), (c)(2)(i)(E) through (O), (c)(3)(i)(E) through (O), and (c)(4) are added to read as follows:

§ 622.49 Annual catch limits (ACLs) and accountability measures (AMs).

* * * * *

(c) Caribbean island management areas/Caribbean EEZ. If landings from a Caribbean island management area, as specified in Appendix E to part 622, except for landings of queen conch (see § 622.33(d)), or landings from the Caribbean EEZ for tilefish and aquarium trade species, are estimated by the SRD to have exceeded the applicable ACL, as specified in paragraph (c)(1) for Puerto Rico management area species or species groups, paragraph (c)(2) for St. Croix management area species or species groups, paragraph (c)(3) for St. Thomas/St. John management area species or species groups, or paragraph (c)(4) for the Caribbean EEZ, the AA will file a notification with the Office of the Federal Register, at or near the beginning of the following fishing year, to reduce the length of the fishing season for the applicable species or species groups that year by the amount necessary to ensure landings do not exceed the applicable ACL. If NMFS determines the ACL for a particular species or species group was exceeded because of enhanced data collection and monitoring efforts instead of an increase in total catch of the species or species group, NMFS will not reduce the length of the fishing season for the applicable species or species group the following fishing year. Landings will be evaluated relative to the applicable ACL based on a moving multi-year average of landings, as described in the FMP. With the exceptions of Caribbean queen conch in Puerto Rico and St. Thomas/St. John management areas, goliath grouper, Nassau grouper, midnight parrotfish, blue parrotfish, and rainbow parrotfish, ACLs are based on the combined Caribbean EEZ and territorial landings for each management area. The ACLs specified in paragraphs (c)(1), (c)(2), (c)(3), and (c)(4) of this section are given in round weight. (See § 622.32 for limitations on taking prohibited and limited harvest species. The limitations in § 622.32 apply without regard to whether the species is harvested by a vessel operating under a valid commercial fishing license issued by Puerto Rico or the U.S. Virgin Islands or by a person subject to the bag limits.)

(1) * * *

(i) * * *

(H) Angelfish—8,984 lb (4,075 kg).

(I) Boxfish—86,115 lb (39,061 kg).

(J) Goatfishes—17,565 lb (7,967 kg).

(K) Grunts—182,396 lb (82,733 kg).

(L) Wrasses—54,147 lb (24,561 kg).

(M) Jacks—86,059 lb (39,036 kg).

(N) Scups and porgies, combined—24,739 lb (11,221 kg).

(O) Squirrelfish—16,663 lb (7,558 kg).

(P) Surgeonfish—7,179 lb (3,256 kg).

(Q) Triggerfish and filefish, combined—58,475 lb (26,524 kg).

(R) Spiny lobster—327,920 lb (148,742 kg).

(ii) * * *

(H) Angelfish—4,492 lb (2,038 kg).

(I) Boxfish—4,616 lb (2,094 kg).

(J) Goatfishes—362 lb (164 kg).

(K) Grunts—5,028 lb (2,281 kg).

(L) Wrasses—5,050 lb (2,291 kg).

(M) Jacks—51,001 lb (23,134 kg).

(N) Scups and porgies, combined—2,577 lb (1,169 kg).

(O) Squirrelfish—3,891 lb (1,765 kg).

(P) Surgeonfish—3,590 lb (1,628 kg).

(Q) Triggerfish and filefish, combined—21,929 lb (9,947 kg).

(2) * * *

(i) * * *

(E) Angelfish—305 lb (138 kg).

(F) Boxfish—8,433 lb (3,825 kg).

(G) Goatfishes—3,766 lb (1,708 kg).

(H) Grunts—36,881 lb (16,729 kg).

(I) Wrasses—7 lb (3 kg).

(J) Jacks—15,489 lb (7,076 kg).

(K) Scups and porgies, combined—4,638 lb (2,104 kg).

(L) Squirrelfish—121 lb (55 kg).

(M) Surgeonfish—33,603 lb (15,242 kg).

(N) Triggerfish and filefish, combined—24,980 lb (11,331 kg).

(O) Spiny lobster—107,307 lb (48,674 kg).

(3) * * *

(i) * * *

(E) Angelfish—7,897 lb (3,582 kg).

(F) Boxfish—27,880 lb (12,646 kg).

(G) Goatfishes—320 lb (145 kg).

(H) Grunts—37,617 lb (17,063 kg).

(I) Wrasses—585 lb (265 kg).

(J) Jacks—52,907 lb (23,998 kg).

(K) Scups and porgies, combined—21,819 lb (9,897 kg).

(L) Squirrelfish—4,241 lb (1,924 kg).

(M) Surgeonfish—29,249 lb (13,267 kg).

(N) Triggerfish and filefish, combined—74,447 lb (33,769 kg).

(O) Spiny lobster—104,199 lb (47,264 kg).

(4) Caribbean EEZ. (i) ACLs. The following ACLs apply to landings of species or species groups throughout the Caribbean EEZ.

(A) Tilefish—14,642 lb (6,641 kg).

(B) Aquarium trade species—8,155 lb (3,699 kg).

(ii) [Reserved]

5. Table 5 of Appendix A to part 622 is revised to read as follows:

Appendix A to Part 622—Species Tables

* * * * *

Table 5 of Appendix A to Part 622—Caribbean Conch Resources

Queen conch, Strombus gigas.

[FR Doc. 2011-28761 Filed 11-4-11; 8:45 am]

BILLING CODE 3510-22-P